DEPARTMENT OF HEALTH AND HUMAN SERVICES

Administration on Aging

Agency Information Collection Activities; Submission for OMB Review; Comment Request; AoA Nutrition and Physical Activity Campaign

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by May 3, 2004.

ADDRESSES: Submit written comments on the collection of information by fax (202) 395-6974 or by mail to the Office of Information and Regulatory Affairs, OMB, New Executive Office Bldg., 725 17th St. NW., rm. 10235, Washington, DC 20503, Attn: Brenda Aguilar, Desk Officer for AoA.

FOR FURTHER INFORMATION CONTACT: Kathleen Loughrey, kathleen.loughrey@aoa.gov.

SUPPLEMENTARY INFORMATION: In compliance with 44 U.S.C. 3507, AoA has submitted the following proposed collection of information to OMB for review and clearance. This notice solicits comments on the information collection requirements relating to organizations that wish to enroll as a partner with AoA in a campaign to create awareness and make nutrition and physical activity programs available to older Americans. The requested information includes providing general information about the entity, its programs, and counts of populations served.

AoA estimates the burden of this collection of information as follows: AoA estimates a total of no more than 500 hours will be required to collect this information. This estimate is based on these assumptions: AoA estimates that 2,000 organizations will complete an entry form to become a campaign partner. Completion of each entry form will require a total of 15 minutes per organization including five minutes to answer questions, five minutes to insert a program description, and five minutes to look up data from existing program records.

Dated: March 30, 2004.
Josefina G. Carbonell,
Assistant Secretary for Aging.

[FR Doc. 04-7452 Filed 4-1-04; 8:45 am]

BILLING CODE 4154-01-P